Title 3—

The President

Proclamation 9325 of September 18, 2015

National Farm Safety and Health Week, 2015

By the President of the United States of America

A Proclamation

Since the days of our Revolution when farmers across the Colonies took up arms in defense of our country, America's farmers and ranchers have played a critical role in shaping our progress and forging a better future for coming generations. Through centuries of hard work, they have supplied our Nation with products and services essential to the economic and physical well-being of our society. This week, we recognize all those serving on our farms, and we recommit to safeguarding their health and livelihoods.

Farmers and ranchers make tremendous contributions to the way of life our ancestors fought to establish, yet they face considerable hazards in the course of their daily responsibilities. To protect the safety of those working on America's farms, my Administration has taken steps to guarantee they have the knowledge, tools, and resources necessary to mitigate and reduce risks to themselves and their families. From handling hazardous chemicals and machinery to working in potentially dangerous areas such as silos or grain elevators, our Nation's farmers, ranchers, and farmworkers should be able to secure the prosperity of their land, their loved ones, and their country without sacrificing their own.

That is why the Federal Government has partnered with farm families, organizations, and businesses to ensure the well-being of those who work on farms. We have strengthened our commitment to those who provide nutrition, clothing, and energy to our people, including by developing nationwide training guidelines that aim to reduce the threats posed to America's next generation of farmers and ranchers. Each year, thousands of people are injured on farms and ranches in America, and I remain committed to pursuing pragmatic, responsible solutions to prevent these tragedies from occurring.

Across our country, those who work on farms bolster our economy and nourish our people by providing what we need at a most human level, helping to uphold America's founding creed: Out of many, we are one. This week, let us recognize the steadfast dedication and commitment of agricultural producers and their families, and let us reaffirm our resolve to promote their health and safety.

NOW, THEREFORE, I, BARACK OBAMA, President of the United States of America, by virtue of the authority vested in me by the Constitution and the laws of the United States, do hereby proclaim September 20 through September 26, 2015, as National Farm Safety and Health Week. I call upon the agencies, organizations, businesses, and extension services that serve America's agricultural workers to strengthen their commitment to promoting farm safety and health programs. I also urge Americans to honor our agricultural heritage and express appreciation to our farmers, ranchers, and farmworkers for their contributions to our Nation.

IN WITNESS WHEREOF, I have hereunto set my hand this eighteenth day of September, in the year of our Lord two thousand fifteen, and of the Independence of the United States of America the two hundred and fortieth.

[FR Doc. 2015-24348

Filed 9-22-15; 11:15 am]

Billing code 3295-F5-P